DEPARTMENT OF EDUCATION

National Assessment Governing Board

AGENCY: National Assessment Governing Board, U.S. Department of Education.

ACTION: Announcement of open and closed meetings.

SUMMARY: This notice sets forth the agenda for the May 16-18, 2019 Quarterly Board Meeting of the National Assessment Governing Board (hereafter referred to as Governing Board). This notice provides information to members of the public who may be interested in attending the meeting or providing written comments related to the work of the Governing Board. Notice of this meeting is required under § 10(a)(2) of the Federal Advisory Committee Act (FACA).

DATES: The Quarterly Board Meeting will be held on the following dates:

• May 16, 2019 from 4:30 p.m. to 6:00 p.m.

• May 17, 2019 from 8:30 a.m. to 5:00 p.m.

• May 18, 2019 from 7:30 a.m. to 12:00 p.m.

ADDRESSES: Sheraton Pentagon City Hotel, 900 S Orme Street, Arlington, VA 22204.

FOR FURTHER INFORMATION CONTACT: Munira Mwalimu, Executive Officer/Designated Federal Official for the Governing Board, 800 North Capitol Street NW, Suite 825, Washington, DC 20002, telephone: (202) 357-6938, fax: (202) 357-6945, email: Munira.Mwalimu@ed.gov.

SUPPLEMENTARY INFORMATION:

Statutory Authority and Function: The Governing Board is established under the National Assessment of Educational Progress Authorization Act, Title III of Public Law 107-279.

The Governing Board is established to formulate policy for the National Assessment of Educational Progress (NAEP) administered by the National Center for Education Statistics (NCES). The Governing Board's responsibilities include the following: Selecting subject areas to be assessed, developing assessment frameworks and specifications, developing appropriate student achievement levels for each grade and subject tested, developing standards and procedures for interstate and national comparisons, improving the form and use of NAEP, developing guidelines for reporting and disseminating results, and releasing initial NAEP results to the public.

May 16-18, 2019 Committee Meetings

The Governing Board's standing committees will meet to conduct regularly scheduled work based on agenda items planned for this Quarterly Board Meeting and follow-up items as reported in the Governing Board's committee meeting minutes available at https://www.nagb.gov/governing-board/quarterly-board-meetings.html.

Detailed Meeting Agenda: May 16-18, 2019

May 16: Committee Meetings

Executive Committee: Open Session: 4:30 p.m. to 4:40 p.m.; Closed Session 4:40 p.m. to 5:50 p.m.; Open Session: 5:50 p.m.-6:00 p.m.;

May 17: Full Governing Board and Committee Meetings

Full Governing Board: Open Session: 8:30 a.m. to 10:15 a.m. Closed Session: 12:45 p.m. to 2:45 p.m. Open Session: 3:00 p.m. to 5:00 p.m.

Committee Meetings: 10:30 a.m. to 12:30 p.m.

Assessment Development Committee (ADC): Joint Closed Session with Committee on Standards, Design and Methodology: 10:30 a.m. to 11:30 a.m.; ADC Open Session: 11:40 a.m. to 12:30 p.m.

Committee on Standards, Design and Methodology (COSDAM): Joint Closed Session with ADC: 10:30 a.m. to 11:30 a.m. COSDAM Open Session: 11:30 a.m. to 12:30 p.m.

Reporting and Dissemination Committee (R&D): Open Session: 10:30 a.m. to 12:30 p.m.

May 18: Full Governing Board and Committee Meetings

Nominations Committee: Closed Session: 7:30 a.m. to 8:15 a.m.

Full Governing Board: Closed Session: 8:30 a.m. to 9:30 a.m.; Open Session: 9:30 a.m. to 11:00 a.m.; Closed Session: 11:00 a.m. to 11:45 a.m.; Open Session: 11:45 a.m. to 12:00 p.m.

On Thursday, May 16, 2019, the Executive Committee will convene in open session from 4:30 p.m. to 4:40 p.m. and thereafter in closed session from 4:40 p.m. to 5:50 p.m. During the closed session, the Executive Committee will receive and discuss independent cost estimates and implications to conduct assessments based on a draft revised NAEP Assessment Schedule, extending to 2030. This meeting must be conducted in closed session because public disclosure of this information would likely have an adverse financial effect on the NAEP program by providing independent government cost estimates and proprietary contract costs of current NAEP contractors to the public. Discussion of this information would be likely to significantly impede implementation of a proposed agency action if conducted in open session. Such matters are protected by exemption 9(B) of section 552b of Title 5 U.S.C.

The Executive Committee will reconvene in open session from 5:50 p.m. to 6:00 p.m.to take action on the NAEP Assessment Schedule.

On Friday, May 17, 2019, the Governing Board will meet in open session from 8:30 a.m. to 10:15 a.m. From 8:30 a.m. to 8:35 a.m. the Governing Board will review and approve the May 16-18, 2019 Quarterly Board Meeting agenda and the meeting minutes from the March 2019 Quarterly Board Meeting. The Governing Board Chair will provide remarks. Thereafter, from 8:35 a.m. to 10:05 a.m., the Governing Board will receive updates from the Joint Governing Board and Council of Chief State School Officers Task Force and the Trial Urban District Assessment Task Force. From 10:05 a.m. to 10:15 a.m., standing committee chairs will provide a preview of committee meeting agendas. At 10:15 a.m., the Governing Board will recess for a 15-minute break and meet thereafter in committee meetings from 10:30 a.m. to 12:30 p.m.

On Friday, May 17, the R&D Committee will meet in open session from 10:30 a.m. to 12:30 p.m. ADC and COSDAM will meet in a joint closed session from 10:30 a.m. to 11:30 a.m. During this closed session, the committees will discuss special studies of NAEP Mathematics. This meeting must be conducted in closed session because the report of these studies has not been released to the public. Public disclosure of the secure data would significantly impede implementation of the NAEP assessment program if conducted in open session. Such matters are protected by exemption 9(B) of § 552b(c) of Title 5 of the United States Code. COSDAM will then meet in open session from 11:30 a.m. to 12:30 p.m. and the ADC will convene in open session from 11:40 a.m. to 12:30 p.m.

Following the committee meetings, on Friday, May 17, 2019, the Governing Board will convene in closed session from 12:45 p.m. to 2:45 p.m. to discuss the NAEP Assessment Schedule and Budget. This meeting must be conducted in closed session because discussions will involve reviewing independent government cost estimates for assessing various NAEP subjects on the assessment schedule. Public disclosure of the cost estimates would significantly impede implementation of the NAEP assessment program if conducted in open session. Such matters are protected by exemption 9(B) of § 552b(c) of Title 5 of the United States Code.

The Governing Board will take a 15-minute break and reconvene in open session from 3:00 p.m. to 5:00 p.m. The Governing Board will receive recommendations for updating the NAEP Mathematics Framework from the ADC chair and mathematics experts. From 4:30 p.m. to 5:00 p.m., the Governing Board will receive updates from the Governing Board's Executive Director, the Institute of Education Sciences Director, and Commissioner of Education Statistics.

The May 17, 2019 session of the Governing Board meeting will adjourn at 5:00 p.m.

On Saturday, May 18, 2019, the Governing Board will convene in three closed sessions. During the first closed session, the Nominations Committee will meet from 7:30 a.m. to 8:15 a.m. for an update on the nominations for Governing Board vacancies for terms that begin on October 1, 2019.

The Nominations Committee's discussions pertain solely to internal personnel rules and practices of an agency and information of a personal nature where disclosure would constitute a clearly unwarranted invasion of personal privacy. As such, the discussions are protected by exemptions 2 and 6 of § 552b(c) of Title 5 of the United States Code.

The second closed session on May 18, 2019 is scheduled from 8:30 a.m. to 9:30 a.m. During that session, the full Governing Board will continue discussion on the NAEP Schedule and Budget. The discussions will involve reviewing independent government cost estimates for assessing various NAEP subjects on the assessment schedule. Public disclosure of the cost estimates would significantly impede implementation of the NAEP assessment program if conducted in open session. Such matters are protected by exemption 9(B) of § 552b(c) of Title 5 of the United States Code.

Following the closed session, the Governing Board will meet in open session from 9:30 a.m. to 11:00 a.m. From 9:30 a.m. to 9:35 a.m., the Governing Board will take action on the NAEP Schedule of Assessments. From 9:35 a.m. to 10:15 a.m., the Governing Board will receive a briefing and discuss planning activities for NAEP's Future in the Era of Digitally Based Assessments. Following a 15-minute break, the Governing Board will receive reports from its standing committees from 10:30 a.m. to 11:00 a.m.

From 11:00 a.m. to 11:45 a.m. the Governing Board will meet in the third closed session of the day to receive a briefing from NCES on the State Mapping Report. This meeting must be conducted in closed session because the report has not been released to the public. Public disclosure of the secure data would significantly impede implementation of the NAEP assessment program if conducted in open session. Such matters are protected by exemption 9(B) of § 552b(c) of Title 5 of the United States Code.

From 11:45 a.m. to 12:00 p.m., the Governing Board will meet in open session to receive a preview of the August 2019 Quarterly Board Meeting. The May 18, 2019 session of the Governing Board meeting will adjourn at 12:00 p.m.

Access to Records of the Meeting: Pursuant to FACA requirements, the public may also inspect the meeting materials at www.nagb.gov beginning on Thursday, May 16, 2019, by 10:00 a.m. EST. The official verbatim transcripts of the public meeting sessions will be available for public inspection no later than 30 calendar days following the meeting.

Reasonable Accommodations: The meeting site is accessible to individuals with disabilities. If you will need an auxiliary aid or service to participate in the meeting (e.g., interpreting service, assistive listening device, or materials in an alternate format), notify the contact person listed in this notice no later than 21 days prior to the meeting.

Written comments may be submitted electronically or in hard copy to the attention of the Executive Officer/Designated Federal Official (see contact information noted above). Information on the Governing Board and its work can be found at www.nagb.gov.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, Title III—National Assessment of Educational Progress § 301.

Dated: April 24, 2019.
Lesley A. Muldoon,
Executive Director, National Assessment Governing Board (NAGB), U.S. Department of Education.

[FR Doc. 2019-08649 Filed 4-29-19; 8:45 am]

BILLING CODE P